ENVIRONMENTAL PROTECTION AGENCY

[FRL-9925-41-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2260.05; Confidential Financial Disclosure Form for Special Government Employees Serving on Federal Advisory Committees at the U.S. Environmental Protection Agency (Renewal); 5 CFR part 2634; was approved with change on 2/25/2015; OMB Number 2090-0029; expires on 2/28/2018.

EPA ICR Number 0559.12; Application for Reference and Equivalent Method Determination (Renewal); 40 CFR parts 53.4, 53.14, 53.15, 53.9(f), (h), (i), and 53.16(a)-(d), (f); was approved without change on 2/25/2015; OMB Number 2080-0005; expires on 2/28/2018.

Comment Filed

EPA ICR Number 2347.01; Implementation of the 2008 National Ambient Air Quality Standards for Ozone: State Implementation Plan Requirements (Proposed Rule); 40 CFR part 51; OMB filed comment on 2/12/2015.

Courtney Kerwin,
Acting Director, Collections Strategies Division.

[FR Doc. 2015-08984 Filed 4-17-15; 8:45 am]

BILLING CODE 6560-50-P